DEPARTMENT OF TRANSPORTATION

Federal Railroad Administration

Safety Advisory 2006-06

AGENCY: Federal Railroad Administration (FRA), Department of Transportation (DOT).

ACTION: Notice of Safety Advisory; center sill cracks on 89-foot flat cars used to haul containers of municipal solid waste.

SUMMARY: FRA is issuing Safety Advisory 2006-06, in order to provide interested parties information related to the potential failure (cracking and breakage) of the center sills on 89-foot flat cars carrying containers in municipal solid waste (MSW) service.

FOR FURTHER INFORMATION CONTACT: Ronald Newman, Staff Director, Motive Power and Equipment Division (RRS-14), FRA Office of Safety Assurance and Compliance, 1120 Vermont Avenue, NW., Washington, DC 20590, telephone: (202) 493-6241 or Michael Masci, Trial Attorney, 1120 Vermont Avenue, NW., Washington, DC 20590, telephone: (202) 493-6037.

SUPPLEMENTARY INFORMATION: FRA was recently made aware of a series of failed center sills on MSW 89-foot flat cars. Among these failures were two cars from the USWX 20000 series. Car USWX 20242 experienced a center sill failure at North Bergen, New Jersey on May 18, 2006, and car USWX 20226 experienced a failure at Harlem River Yard in New York on June 8, 2006. The failed center sill on car USWX 20242 resulted in an undesired emergency brake application and narrowly avoided a derailment. The center sill on car USWX 20226 was found to have an Association of American Railroad (AAR) center sill patch applied in the breakage area when inspected after the incident.

Both cars were manufactured by Trinity, Industries (Trinity) in 2000 and are used to carry containers of MSW to several host landfill sites. These cars are operated predominately in the northeast quadrant of the United States rail network by CSX Transportation, Incorporated (CSX) and Norfolk Southern Corporation (NS). The cars are owned by USA Waste Services, Incorporated (USWS) and operate between USWS loading sites in New Jersey and New York and their landfill in Waverly, Virginia. In mid-June, two additional cars were brought to FRA's attention. These incidents involved car USWX 638446 (cracked center sill) near Petersburg, Virginia on June 11, 2006, and car JTSX 400175 (cracked side sill) near Selkirk, New York on June 12, 2006.

As a result of these four reported incidents, FRA invited the parties involved with these failures to attend an open discussion in Washington, DC, on June 16, 2006. Representatives from AAR, USWS, David J. Joseph Company, Trinity, CSX, NS, and FRA Regional MP&E Specialists attended this meeting. At this meeting, FRA expressed its concerns with regard to 89-foot flat cars being used in this MSW service. Topics addressed at this meeting included: Design and loading concerns, transportation and inspection of equipment, repairs, handling of defective cars, and safety action plans. Information developed from this meeting revealed that a potential overloading problem with cars in MSW service possibly was causing or contributing to sill cracking and breakage.

Subsequent to this meeting, FRA sent a letter to USWS on June 29, 2006, recommending that USWS implement a comprehensive car inspection program and to review the loading and unloading procedures used by its employees to identify and remedy the potential causes for this type of damage. FRA also recommended that CSX and NS conduct joint mechanical inspections and work with the AAR in developing appropriate engineering standards and loading rules to address similarly affected loaded waste cars. On July 10, 2006, USWS responded to FRA stating that a pro-active program was being undertaken by USWS for cars owned by them performing MSW service. Based on the positive industry response to the safety concerns raised by FRA, the agency continued to monitor the use of flat cars in MSW service and is aware of the following additional cars that have experienced cracked center sills:

1. ECCX 97072 on June 22, 2006, in Waycross, Georgia.

2. ECCX 97098 on June 22, 2006, in Waycross, Georgia.

3. ECCX 97072 on June 22, 2006, in Waycross, Georgia.

4. ECCX 97111 on June 22, 2006, in Waycross, Georgia.

5. DTTX 64043 on September 14, 2006, in Elizabeth, New Jersey.

6. ECXX 20046 on November 26, 2006, in Marshville, North Carolina.

7. ECXX 20043 on December 1, 2006, in Sabot, Virginia.

Based on information provided by the AAR, it appears that the ECXX cars are owned and operated by ECDC Environmental located in Salt Lake City, Utah, and the DTTX car is owned by Trailer Train Company in Chicago, Illinois.

At this time, FRA is not aware of any derailments attributed to the center sill failures on any of these cars. However, due to the severity and nature of the cracking and breaks in the center sills of these flat cars, and the high density traffic corridors in which the cars operate, FRA feels compelled to advise car owners and operating railroads of the potential for catastrophic failures and/or derailments involving these cars. FRA mechanical field inspectors will be conducting periodic nationwide inspections of this equipment to ascertain the magnitude of the car population and to gather further information regarding any failures. At this time, it appears that many of the above noted cars may have been overloaded or compacted, which may have contributed to center sill cracking and failure. Additional supplements to this Safety Advisory may follow as cause of the cracking and remedial measures are identified.

Recommended Action

In recognition of the need to ensure safety, FRA recommends that railroads and car owners carefully inspect the center sills of all flat cars used to carry containers of MSW. FRA further recommends that any such car found with a crack or cracks of any size in the center sill area be immediately bad ordered and sent to an appropriate shop for repairs consistent with quality shop repair.

Failure of car owners and railroads to voluntarily take action consistent with the above recommendation may result in FRA pursuing other corrective measures to enforce public safety under its rail safety authority. FRA may modify Safety Advisory 2006-06, issue additional safety advisories, or take other appropriate action necessary to ensure the highest level of safety on the nation's railroads.

Issued in Washington, DC on January 3, 2007.
Jo Strang,
Associate Administrator for Safety.

[FR Doc. E7-29 Filed 1-5-07; 8:45 am]

BILLING CODE 4910-06-P